DEPARTMENT OF ENERGY

Federal Energy Regulatory Commission

Combined Notice of Filings

Take notice that the Commission has received the following Natural Gas Pipeline Rate and Refund Report filings:

Filings Instituting Proceedings

Docket Numbers: RP13-1103-000.

Applicants: Northern Border Pipeline Company.

Description: ACA Filing 2013 to be effective 10/1/2013.

Filed Date: 7/25/13.

Accession Number: 20130725-5059.

Comments Due: 5 p.m. ET 8/6/13.

Docket Numbers: RP13-1104-000.

Applicants: Portland Natural Gas Transmission System.

Description: ACA Filing 2013 to be effective 10/1/2013.

Filed Date: 7/25/13.

Accession Number: 20130725-5060.

Comments Due: 5 p.m. ET 8/6/13.

Docket Numbers: RP13-1105-000.

Applicants: Energy West Development, Inc.

Description: Order No. 587-V Compliance Filing to be effective 12/1/2012.

Filed Date: 7/25/13.

Accession Number: 20130725-5061.

Comments Due: 5 p.m. ET 8/6/13.

Docket Numbers: RP13-1106-000.

Applicants: TC Offshore LLC.

Description: ACA Filing 2013 to be effective 10/1/2013.

Filed Date: 7/25/13.

Accession Number: 20130725-5078.

Comments Due: 5 p.m. ET 8/6/13.

Docket Numbers: RP13-1107-000.

Applicants: Tuscarora Gas Transmission Company.

Description: ACA Filing 2013 to be effective 10/1/2013.

Filed Date: 7/25/13.

Accession Number: 20130725-5085.

Comments Due: 5 p.m. ET 8/6/13.

Docket Numbers: RP13-1108-000.

Applicants: Columbia Gas Transmission, LLC.

Description: Negotiated Rate Agreement—WGL 6800 & 7599 to be effective 7/26/2013.

Filed Date: 7/25/13.

Accession Number: 20130725-5122.

Comments Due: 5 p.m. ET 8/6/13.

Docket Numbers: RP13-1109-000.

Applicants: Southern Natural Gas Company, L.L.C.

Description: ACA Surcharge Filing—2013 to be effective 10/1/2013.

Filed Date: 7/26/13.

Accession Number: 20130726-5016.

Comments Due: 5 p.m. ET 8/7/13.

Docket Numbers: RP13-1110-000.

Applicants: Southern LNG Company, L.L.C.

Description: ACA Surcharge—2013 to be effective 10/1/2013.

Filed Date: 7/26/13.

Accession Number: 20130726-5017.

Comments Due: 5 p.m. ET 8/7/13.

Docket Numbers: RP13-1111-000.

Applicants: Elba Express Company, L.L.C.

Description: ACA Surcharge—2013 to be effective 10/1/2013.

Filed Date: 7/26/13.

Accession Number: 20130726-5018.

Comments Due: 5 p.m. ET 8/7/13.

Docket Numbers: RP13-1112-000.

Applicants: American Midstream (AlaTenn), LLC.

Description: AlaTenn Order No. 776 Compliance Filing to be effective 10/1/2013.

Filed Date: 7/26/13.

Accession Number: 20130726-5026.

Comments Due: 5 p.m. ET 8/7/13.

Docket Numbers: RP13-1113-000.

Applicants: American Midstream (Midla), LLC.

Description: Midla Order No. 776 Compliance Filing to be effective 10/1/2013.

Filed Date: 7/26/13.

Accession Number: 20130726-5027.

Comments Due: 5 p.m. ET 8/7/13.

Docket Numbers: RP13-1114-000

Applicants: High Point Gas Transmission, LLC.

Description: High Point Order No. 776 Compliance Filing to be effective 10/1/2013.

Filed Date: 7/26/13.

Accession Number: 20130726-5030.

Comments Due: 5 p.m. ET 8/7/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1097-001.

Applicants: Eastern Shore Natural Gas Company.

Description: Storage Tracker Filin—November 1, 2012 to be effective 11/1/2012.

Filed Date: 7/26/13.

Accession Number: 20130726-5024.

Comments Due: 5 p.m. ET 8/7/13.

Docket Numbers: RP13-1097-002.

Applicants: Eastern Shore Natural Gas Company.

Description: Storage Tracker Filin—March 1, 2013 to be effective 3/1/2013.

Filed Date: 7/26/13.

Accession Number: 20130726-5028.

Comments Due: 5 p.m. ET 8/7/13.

Docket Numbers: RP13-366-001.

Applicants: Eastern Shore Natural Gas Company.

Description: Storage Tracker Filing—April 1, 2013 to be effective 7/26/2013.

Filed Date: 7/26/13.

Accession Number: 20130726-5079.

Comments Due: 5 p.m. ET 8/7/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 29, 2013.
Nathaniel J. Davis, Sr.,
Deputy Secretary.

[FR Doc. 2013-18663 Filed 8-1-13; 8:45 am]

BILLING CODE 6717-01-P